DEPARTMENT OF THE INTERIOR

National Park Service

Notice of Intent To Prepare a Draft Environmental Impact Statement (DEIS) for a Proposed Land Exchange Between the National Park Service (NPS) and the Eastern Band of Cherokee Indians (Eastern Band) at the Great Smoky Mountains National Park, Tennessee

SUMMARY: Under the provisions of the National Environmental Policy Act of 1969, the NPS intends to prepare a DEIS for a proposed Land Exchange. NPS intends to gather information necessary for the preparation of a proposed Land Exchange DEIS and to obtain suggestions and information from other agencies and the public on the scope of issues to be addressed. Alternatives currently under consideration include (1) no action, (2) a land exchange as proposed by the Eastern Band, and (3) a land exchange subject to development restrictions to protect natural and cultural resources. The NPS requests other suggested alternatives from the public through the scoping process.

DATES: Three public scoping meetings are being planned. The first will be held in Cherokee, North Carolina in February 2002. Exact locations, dates, and times of this and future public scoping meetings will be announced in local and NPS media. The proposal would involve the exchange of lands within Great Smoky Mountains National Park for an equivalent amount of land offered by the Eastern Band adjacent to the Blue Ridge Parkway.

ADDRESSES: Requests for information concerning dates, times of public meetings, written comments, information concerning the scope of the proposed Land Exchange DEIS and other matters should be sent to the following address: Attention Anita Jackson, National Park Service, Southeast Regional Office, Planning and Compliance Division, 100 Alabama St. SW, Atlanta, Georgia 30303. Requests to be added to the project mailing list should be directed to the same address.

FOR FURTHER INFORMATION CONTACT: Anita Jackson, Environmental Compliance Specialist, National Park Service, Southeast Regional Office, 404-562-3124 ext. 705. Information on the dates and times of public scoping meetings may also be found on the Great Smoky Mountains National Park Web site, www.nps.gov/grsm.

SUPPLEMENTARY INFORMATION: Great Smoky Mountains National Park, a unit of the National Park System, is bordered on the south by the Reservation of the Eastern Band known as the Qualla Boundary. The Eastern Band operates the primary and secondary schools within the Qualla Boundary under a contract with the U.S. Department of the Interior. The Interior Department several decades ago constructed the existing school buildings. The buildings are aging, overcrowded, and inadequate to meet the current and future educational needs of the Eastern Band. In the mountainous lands of western North Carolina, suitable lands for the location and construction of new schools are limited. The Eastern Band has requested that up to 200 acres of land within Great Smoky Mountains National Park be made available to them for the purpose of new school construction. The Eastern Band also seeks the same parcel of land to reestablish a land corridor between two parts of the Qualla Boundary that are separated by NPS land. The Eastern Band has offered in exchange 218 acres of land, identified as a priority for acquisition by the Blue Ridge Parkway, adjacent to the Waterrock Knob Visitor Center. The NPS has agreed to explore the possibility of a land exchange.

Our practice is to make comments, including names and addresses of respondents, available for public review during regular business hours. If you wish for us to withhold your name and/or address, you must state this prominently at the beginning of your comment. We will make all submissions from organizations or businesses, and from individuals identifying themselves as representatives or officials or organizations or businesses, available for public inspection in their entirety.

Dated: December 21, 2001.
W. Thomas Brown,
Acting Regional Director, Southeast Region.

[FR Doc. 02-674 Filed 1-10-02; 8:45 am]

BILLING CODE 4310-70-M